FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Speedtrans International, Inc., Suite 1001 Federal Tower Condominium, Dasmarinas Street, Binondo, Manila, Officers: Edith P. Vaporoso, Exec. Vice President (Qualifying Individual), Susano D. Gemora, Jr., President.

Pacific-Net Logistics ATL, Inc., 6020 Dawson Blvd., #F, Norcross, GA 30093, Officers: David Hume Shafer, CEO (Qualifying Individual), Michael Tsang, CFO.

Marenas Shipping, L.L.C., 8074 NW., 66 Street, Miami, FL 33166, Officers: Freddy J. Zelaya, Exec. Manager (Qualifying Individual), Jorge Arenas, President.

Non-Vessel Operating Common Carrier and Ocean Freight Forwarder Transportation Intermediary Applicants

CAF Worldwide Inc., 154-09 146th Avenue, Jamaica, NY 11434, Officers: Joseph F. Barry, Vice President (Qualifying Individual), Joseph F. Barry, III, President.

M/S Galaxy Multimodal Systems Pvt. Ltd., 7, Kumtha Street, Ballard Estate, Mumbai-400 038, India, Officer: Capt. P. P. Singh, Managing Director (Qualifying Individual).

Dated: June 13, 2003.
Bryant L. VanBrakle,
Secretary.

[FR Doc. 03-15387 Filed 6-17-03; 8:45 am]

BILLING CODE 6730-01-P